NATIONAL AERONAUTICS AND SPACE ADMINISTRATION

[Notice: 17-079]

NASA Advisory Council; Aeronautics Committee; Meeting

AGENCY: National Aeronautics and Space Administration.

ACTION: Notice of meeting.

SUMMARY: In accordance with the Federal Advisory Committee Act, as amended, the National Aeronautics and Space Administration (NASA) announces a meeting of the Aeronautics Committee of the NASA Advisory Council (NAC). The meeting will be held for the purpose of soliciting, from the aeronautics community and other persons, research and technical information relevant to program planning. This Committee reports to the NAC.

DATES: Wednesday, November 15, 2017, 12:30-5:15 p.m.; and Thursday, November 16, 2017, 8:00-11:30 a.m., Local Time.

ADDRESSES: The AERO Institute, 38256 Sierra Highway, Palmdale, CA 93550.

FOR FURTHER INFORMATION CONTACT: Ms. Irma Rodriguez, Designated Federal Officer, NAC Aeronautics Committee, NASA Headquarters, Washington, DC 20546, (202) 358-0984, or irma.c.rodriguez@nasa.gov.

SUPPLEMENTARY INFORMATION: The meeting will be open to the public up to the capacity of the room. This meeting is also available telephonically and WebEx. You must use a touch-tone telephone to participate in this meeting. Any interested person may dial the USA toll-free conference number 1-844-467-6272, passcode 317924, to participate in this meeting by telephone. The WebEx link is https://nasa.webex.com/, the meeting number for 11/15/17 is 998 190 104, and the password is NACAero@1; and for 11/16/17 the meeting number is 999 027 064, and the password is NACAero@2. The agenda for the meeting includes the following topics:

• Low Boom Flight Demonstrator (LFBD)

• System Wide Safety Assurance Project Objectives and Content

• Hypersonics Project

Attendees will be requested to sign a register to document attendance. It is imperative that the meeting be held on these dates to accommodate the scheduling priorities of the key participants. For questions, please call Ms. Irma Rodriguez at (202) 358-0984.

Patricia D. Rausch,
Advisory Committee Management Officer, National Aeronautics and Space Administration.

[FR Doc. 2017-23409 Filed 10-27-17; 8:45 am]

BILLING CODE 7510-13-P